DEPARTMENT OF THE INTERIOR

Bureau of Indian Affairs

Proclaiming Certain Lands as a Reservation for the Nottawaseppi Huron and of Potawatomi Indians of Michigan

AGENCY: Bureau of Indian Affairs, Interior.

ACTION: Notice of Reservation Proclamation; Correction.

SUMMARY: The Bureau of Indian Affairs (BIA) published a document in the Federal Register of November 13, 2007, concerning the Assistant Secretary—Indian Affairs proclaiming approximately 78.26 acres as the Nottawaseppi Huron Band of Potawatomi Indian Reservation. The document contained an error in the legal description.

DATES: Effective Date: November 24, 2009.

FOR FURTHER INFORMATION CONTACT: Ben Burshia, Bureau of Indian Affairs, Division of Real Estate Services, MS-4639 MIB, 1849 C Street, NW., Washington, DC 20240, telephone (202) 208-7737.

SUPPLEMENTARY INFORMATION:

Corrections

In the Federal Register of November 13, 2007, in FR Doc. E7-22158, on page 63924, in the second column, line seven, change “North 60 degrees 2′ 31″ East” to “North 60 degrees 25′ 31″ East,” such that line seven reads as follows:

Degrees 25′ 31″ East, 347.43 feet; thence.

Dated: October 21, 2009.
Larry Echo Hawk,
Assistant Secretary—Indian Affairs.

[FR Doc. E9-28157 Filed 11-23-09; 8:45 am]

BILLING CODE 4310-W7-P